NUCLEAR REGULATORY COMMISSION

Sunshine Act Federal Register Notice

Agency Holding the Meetings: Nuclear Regulatory Commission.

DATES: Weeks of June 25, July 2, 9, 16, 23, 30, 2007.

Place: Commissioners' Conference Room, 11555 Rockville Pike, Rockville, Maryland.

Status: Public and Closed.

Matters to be considered:

Week of June 25, 2007

Thursday, June 28, 2007

12:55 p.m.

Affirmation Session (Public Meeting) (Tentative);

a. Consumers Energy Co. (Big Rock Point ISFSI); License Transfer Application; Petition for Reconsideration of CLI-07-19 (Tentative).

b. Consumers Energy Company, et al. (Palisades Nuclear Plant); License Transfer Application; Petition for Reconsideration (Tentative).

Week of July 2, 2007—Tentative

There are no meetings scheduled for the Week of July 2, 2007.

Week of July 9, 2007—Tentative

There are no meetings scheduled for the Week of July 9, 2007.

Week of July 16, 2007—Tentative

Wednesday, July 18, 2007

1 p.m.

Briefing on Digital Instrumentation and Control (Public Meeting) (Contact: William Kemper, 301-415-7585).

This meeting will be webcast live at the Web address— http://www.nrc.gov.

Week of July 23, 2007—Tentative

Tuesday, July 24, 2007

2 p.m.

Briefing on Palo Verde, Unit 3 (Public Meeting) (Contact: Michael Markley, 301-415-5723).

This meeting will be webcast live at the Web address— http://www.nrc.gov.

Wednesday, July 25, 2007

2 p.m.

Discussion of Management Issues (Closed-Ex. 2).

Week of July 30, 2007

There are no meetings scheduled for the Week of July 30, 2007.

*The schedule for Commission meetings is subject to change on short notice. To verify the status of meetings call (recording)—(301) 415-1292. Contact person for more information: Michelle Schroll, (301) 415-1662.

The NRC Commission Meeting Schedule can be found on the Internet at: http://www.nrc.gov/about-nrc/policy-making/schedule.html.

The NRC provides reasonable accommodation to individuals with disabilities where appropriate. If you need a reasonable accommodation to participate in these public meetings, or need this meeting notice or the transcript or other information from the public meetings in another format (e.g., braille, large print), please notify the NRC's Disability Program Coordinator, Rohn Brown, at 301-492-2279, TDD: 301-415-2100, or by e-mail at REB3@nrc.gov. Determinations on requests for reasonable accommodation will be made on a case-by-case basis.

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: June 21, 2007.
R. Michelle Schroll,
Office of the Secretary.

[FR Doc. 07-3144 Filed 6-22-07; 11:31 am]

BILLING CODE 7590-01-P